DEPARTMENT OF THE INTERIOR

Bureau of Land Management

[A2407-014-004-065516; #O2412-014-004-047181.1]

Filing of Plats of Survey: California

AGENCY: Bureau of Land Management, Interior.

ACTION: Notice of official filing.

SUMMARY: The plats of survey of lands described in this notice are scheduled to be officially filed in the Bureau of Land Management (BLM), CA State Office, Sacramento, CA, 30 calendar days from the date of this publication. The surveys, which were executed at the request of the U.S. Fish and Wildlife Service, Office of Native Hawaiian Relations (ONHR), Department of Defense, Bureau of Indian Affairs and the BLM, are necessary for the management of these lands.

DATES: Unless there are protests to this action, the plats described in this notice will be filed on August 11, 2025.

ADDRESSES: You may submit written protests to the BLM CA State Office, Cadastral Survey, 2800 Cottage Way, W-1623, Sacramento, CA 95825. A copy of the plats may be obtained from the BLM CA State Office, Public Room, 2800 Cottage Way, W-1623, Sacramento, CA 95825, upon required payment.

FOR FURTHER INFORMATION CONTACT: Joan Honda, Chief, Branch of Cadastral Survey, BLM, CA State Office, 2800 Cottage Way, W-1623, Sacramento, CA 95825; 1-916-978-4316; jhonda@blm.gov.

Individuals in the United States who are deaf, deafblind, hard of hearing, or have a speech disability may dial 711 (TTY, TDD, or TeleBraille) to access telecommunications relay services for contacting Ms. Honda. Individuals outside the United States should use the relay services offered within their country to make international calls to the point-of-contact in the United States.

SUPPLEMENTARY INFORMATION: The lands surveyed are:

Humboldt Meridian, CA

T. 6 N., R. 1 W., addendum, for Group No. 1788, accepted April 17, 2025.

T. 10 and 11 N., R. 3 E., dependent resurvey and subdivision and metes-and-bounds survey, for Group No. 1778, accepted May 1, 2025.

Mount Diablo Meridian, CA

T. 22 S., R. 23 E., dependent resurvey and subdivision of section 14, for Group No. 1820, accepted December 10, 2024.

T. 10 N., R. 9 E., dependent resurvey and subdivision, for Group No. 1821, accepted December 10, 2024.

San Bernardino Meridian, CA

T. 5 N., R. 5 E., supplemental plat of section 32 showing new lotting, accepted March 18, 2025.

T. 4 N., R. 3 E., supplemental plat of section 1 showing new lotting, accepted March 18, 2025.

T. 4 N., R. 5 E., supplemental plat of section 1 showing new lotting, accepted March 18, 2025.

T. 16 N., R. 14 E., dependent resurvey, subdivision of section 1, and metes-and-bounds survey, for Group No. 1815, accepted April 3, 2025.

T. 4 S., R. 1 E., dependent resurvey and subdivision of section 27, for Group No. 1812, accepted April 24, 2025.

State of Hawai'i

State of Hawai'i, Waiakea, District of South Hilo, Island of Hawai'i, Meander Survey and Metes-And-Bounds Survey, for Group No.4 Hawai'i, accepted March 13, 2025.

A person or party who wishes to protest one or more plats of survey must file a written notice of protest within 30 calendar days from the date of this publication at the address listed in the ADDRESSES section of this notice. Any notice of protest received after the due date will be untimely and will not be considered. A written statement of reasons in support of a protest, if not filed with the notice of protest, must be filed at the same address within 30 calendar days after the notice of protest is filed. If a protest against the survey is received prior to the date of official filing, the filing will be stayed pending consideration of the protest. A plat will not be officially filed until the day after all protests have been dismissed or otherwise resolved.

Before including your address, phone number, email address, or other personally identifiable information in your notice of protest or statement of reasons, you should be aware that the documents you submit—including your personally identifiable information—may be made publicly available at any time. While you can ask the BLM to withhold your personally identifiable information from public review, we cannot guarantee that we will be able to do so.

Authority: 43 U.S.C., Chapter 3.

Joan Honda,
Chief Cadastral Surveyor.

[FR Doc. 2025-13003 Filed 7-10-25; 8:45 am]

BILLING CODE 4331-15-P